SURFACE TRANSPORTATION BOARD

Privacy Act of 1974; System of Records

AGENCY: Surface Transportation Board.

ACTION: Notice of a new system of records.

SUMMARY: This system is a cloud-based procurement workflow management platform that allows the STB to streamline the procurement process, while ensuring policy compliance. This system maintains records related to payments made by the STB, including vendor payments and other financial disbursements.

DATES: Please submit comments on or before April 1, 2026. This new system is effective upon publication in today's Federal Register, with the exception of the routine uses, which are effective April 1, 2026.

ADDRESSES: Address all comments concerning this notice to Marquis Toson, Privacy Officer, Surface Transportation Board, 395 E Street SW, Washington, DC 20423, (202) 816-8433; privacy@stb.gov.

FOR FURTHER INFORMATION CONTACT: Marquis Toson, Surface Transportation Board, 395 E Street SW, Washington, DC 20423, (202) 816-8433, privacy@stb.gov.

SUPPLEMENTARY INFORMATION: Under the Privacy Act of 1974 (5 U.S.C. 552a), as amended, Federal agencies are required to publish a system of records notice in the Federal Register informing the public of any new or modified system of records maintained by the agency and searched by personal identifier. The following notice describes a new system of records.

This new Procurement Management System will modernize and streamline acquisition and procurement functions. This system will serve as the central platform for processing procurement actions, tracking contract life cycles, and managing related documentation in accordance with federal acquisition regulations and agency policies.

SYSTEM NAME AND NUMBER:

STB Procurement Management System.

SECURITY CLASSIFICATION:

Unclassified.

SYSTEM LOCATION:

The STB Procurement Management System is a cloud-based software as a service offering.

SYSTEM MANAGER(S):

Bryan Banks, Surface Transportation Board, 395 E Street SW, Suite 1064.

AUTHORITY FOR MAINTENANCE OF THE SYSTEM:

Privacy Act of 1974.

Payment Integrity Information Act of 2019 (PIIA).

Executive Order 14249 (March 25, 2025).

PURPOSE(S) OF THE SYSTEM:

To maintain records related to payments made by the Surface Transportation Board (STB), including vendor payments and other financial disbursements.

Records are used to ensure accurate financial processing, report financial activity, and support efforts to detect and prevent improper payments in accordance with federal law.

CATEGORIES OF INDIVIDUALS COVERED BY THE SYSTEM:

Current and former vendors who receive payments from the STB.

CATEGORIES OF RECORDS IN THE SYSTEM:

Contract Numbers, Name, Tax Identification Number, mailing address, email address, telephone number, banking information, payment amount, payment date, invoice or reimbursement information, and transaction identifiers.

RECORD SOURCE CATEGORIES:

Information is obtained from individuals, financial institutions, STB financial management systems, and related federal agencies (e.g., Treasury).

ROUTINE USES OF RECORDS MAINTAINED IN THE SYSTEM, INCLUDING CATEGORIES OF USERS AND PURPOSES OF SUCH USES:

In addition to the disclosures permitted under subsection (b) of the Privacy Act, the STB may disclose information contained in this system of records without the consent of the subject individual, if the disclosure is compatible with the purpose for which the records was collected under the following routine uses:

a. A record from this system of records may be disclosed as a routine use to provide information to OPM, EEOC, and/or MSPB for review, audit, or reporting purposes.

b. A record from this system of records may be disclosed to the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

c. A record from this system of records that indicates a violation of civil or criminal law regulation or order may be referred as a routine use to a Federal, State, or local agency that has authority to investigate, enforce, implement or prosecute such laws. Further, a record from this system of records may be disclosed for civil or criminal law or regulatory enforcement purposes to another agency in response to a written request from that agency's head or an official who has been delegated such authority.

d. A record from this system of records may be disclosed as a routing use during discovery; in presenting evidence to a court, magistrate, administrative tribunal, or grand jury or pursuant to a qualifying order from any of those; in alternative dispute resolution proceedings, such as arbitration or mediation; or during settlement negotiations.

e. A record from this system of records may be disclosed as a routine use to a Congressional office from the record of an individual in response to an inquiry from the Congressional office made at the request of that individual.

f. A record from this system of records may be disclosed as a routine use to appropriate agencies, entities, and persons when (1) STB suspects or has confirmed that there has been a breach of the systems of records, (2) STB has determined that as a result of the suspected or confirmed breach there is a risk of harm to individuals, STB (including its information systems, programs, and operations), the Federal Government, or national security; and (3) the disclosure made to such agencies, entities, and persons is reasonably necessary to assist in connection with STB efforts to respond to the suspected or confirmed breach or to prevent, minimize, or remedy such harm; and

g. A record from this system of records may be disclosed as a routine use to another Federal agency or Federal entity, when the STB determines that information from this system of records is reasonably necessary to assist the recipient agency or entity in (1) responding to a suspected or confirmed breach or (2) preventing, minimizing, or remedying the risk of harm to individual, the recipient agency or entity (including its information systems, programs, and operations), the Federal Government, or national security, resulting from a suspected or confirmed breach.

POLICIES AND PRACTICES FOR STORAGE OF RECORDS:

Electronic records are stored on a secure server. Sensitive or confidential paper records are stored in a secured room or filing cabinet.

POLICIES AND PRACTICES FOR RETRIEVAL OF RECORDS:

Records are retrieved by employee/requester name, title, company, vendor, current state, or reference number.

POLICIES AND PRACTICES FOR RETENTION AND DISPOSAL OF RECORDS:

Records are retained under the National Archives and Records Administration's General Records Schedule 1.1: Financial Management and Reporting Records; 010 Financial transaction records related to procuring goods and services, paying bills, collecting debts, and accounting.

Temporary, destroy 6 years after final payment or cancellation, but longer retention is authorized if required for business use.

ADMINISTRATIVE, TECHNICAL, AND PHYSICAL SAFEGUARDS:

Only authorized personnel with a “need to know” are authorized to access the records. Access to electronic records is password-enabled authenticated users and limited according to job function. Access to hard-copy records is controlled by lock and key or by access to a secure area and is limited according to job function and “need to know”.

RECORD ACCESS PROCEDURES:

Same as “Notification Procedures”.

CONTESTING RECORD PROCEDURES:

Same as “Notification Procedures”.

NOTIFICATION PROCEDURES:

Individuals seeking to determine whether this system of records contains information about them should write to the Freedom of Information Act or Privacy Act Officer at Surface Transportation Board, 395 E Street SW, Washington, DC 20423, (202) 245-0458 (Fax), privacy@stb.gov and comply with the STB's Privacy Act regulation.

EXEMPTIONS PROMULGATED FOR THE SYSTEM:

None.

HISTORY:

None.

Jeffrey Herzig,
Clearance Clerk.

[FR Doc. 2026-03241 Filed 2-18-26; 8:45 am]

BILLING CODE 4915-01-P